DEPARTMENT OF ENERGY

Federal Energy Regulatory Commission

[Docket No. PR95-18-002]

Duke Energy Intrastate Network, L.L.C.; Notice of Compliance Filing

April 27, 2000.

Take notice that on March 13, 2000, Duke Energy Intrastate Network, L.L.C. (DEIN) tendered for filing revised Statement of Operating Conditions (SOC) pursuant to the Commission's February 10, 2000 Letter Order.

DEIN states that it has modified Article III of the SOC to remove the reference to the priority accorded to customers purchasing gas from DEIN. DEIN also states that it has added language to modify Article A-XI, Section 11.4 to clarify that rates negotiated between transporter and shippers are discounted rates.

Pursuant to section 284.123(b)(2)(ii), if the Commission does not act within 150 days of the filing date of Lee 8's Petition, Lee 8's rates for firm and interruptible storage services will be deemed to be fair and equitable. The Commission may within such 150 day period extend the time for action or institute a proceeding in which all interested parties will be afforded an opportunity for written comments and the oral presentation of views, data and arguments.

Any person desiring to protest this rate proceeding must file a protest with the Federal Energy Regulatory Commission, 888 First Street, NE., Washington, DC 20426, in accordance with rule 211 of the Commission's Rules of Practice and Procedure (18 CFR 385.211). All protest must be filed with the Secretary of the Commission on or before May 4, 2000. This petition for rate approval is on file with the Commission and is available for public inspection. This filing may be viewed on the web at http://www.ferc.fed.us/online/rims.htm (call 202-208-2222 for assistance).

David P. Boergers,
Secretary.

[FR Doc. 00-10957 Filed 5-2-00; 8:45 am]

BILLING CODE 6717-01-M